ENVIRONMENTAL PROTECTION AGENCY

[ER-FRL-6612-5]

Environmental Impact Statements; Notice of Availability

Responsible Agency: Office of Federal Activities, General Information (202) 564-7167 or www.epa.gov/oeca/ofa.

Weekly receipt of Environmental Impact Statements filed October 30, 2000 through November 3, 2000 pursuant to 40 CFR 1506.9.

EIS No. 000374, FINAL EIS, FHW, CA, US-7 Expressway Project, Construction between CA-98 to Interstate 8, Improve Access to the new Calexico East Port of Entry, Funding and COE Section 404 Permit, Imperial County, CA, Due: December 4, 2000, Contact: Jeffery S. Lewis (916) 498-5035. This Notice of Availability should have appeared in the 11/3/2000 FR. The Official Wait Period began on 11/3/2000 and ends on 12/4/2000.

EIS No. 000375, DRAFT EIS, NPS, WA, Mount Rainier National Park General Management Plan, Implementation, Pierce and Lewis Counties, WA, Due: February 9, 2001, Contact: Eric Walkinshaw (360) 589-2211.

EIS No. 000376, FINAL EIS, AFS, ID, Goose Creek Watershed Project, Harvesting Timber and Improve Watershed, Payette National Forest, New Meadows Ranger District, Adams County, ID, Due: December 26, 2000, Contact: Kimberly Brandel (208) 347-0300.

EIS No. 000377, FINAL EIS, COE, MO, Chesterfield Valley Flood Control Study, Improvement Flood Protection, City of Chesterfield, St. Louis County, MO, Due: December 11, 2000, Contact: Deborah Foley (314) 331-8485.

EIS No. 000378, DRAFT EIS, FHW, VA, I-73 Location Study, Between Roanoke and the North Carolina State Line Commonwealth of Virginia, Construction and Operation, Bedford, Botetourt, Franklin, Henry and Roanoke Counties, Cities of Roanoke and Martinsville, VA, Due: January 5, 2001, Contact: J. Bruce Turner (804) 775-3320.

EIS No. 000379, FINAL EIS, COE, WA, Programmatic Green/Duwamish River Basin Restoration Program, Capitol Improvement Type Program and Ecological Health, King County, WA, Due: December 11, 2000, Contact: Patrick Cagney (206) 764-6577.

EIS No. 000380, DRAFT EIS, NRC, GA, Generic EIS—Edwin I. Hatch Nuclear Plant, Unit 1 and 2, License Renewal of Nuclear Plants, Supplement 4 to NUREG-1437, Altamaha River, Appling County, GA, Due: January 24, 2001, Contact: Andrew J. Kugler (301) 415-2828.

Dated: November 6, 2000.
Ken Mittelholtz,
Environmental Protection Specialist, Office of Federal Activities.

[FR Doc. 00-28840 Filed 11-8-00; 8:45 am]

BILLING CODE 6560-50-P